DEPARTMENT OF ENERGY

Federal Energy Regulatory Commission

Combined Notice of Filings #1

Take notice that the Commission received the following electric corporate filings:

Docket Numbers: EC18-139-000.

Applicants: Lower Mount Bethel Energy, LLC, Martins Creek, LLC, LMBE Project Company LLC, MC Project Company LLC.

Description: Joint Application for Approval under Section 203 of the Federal Power Act, et al. of Lower Mount Bethel Energy, LLC, et al.

Filed Date: 8/14/18.

Accession Number: 20180814-5143.

Comments Due: 5 p.m. ET 9/4/18.

Take notice that the Commission received the following electric rate filings:

Docket Numbers: ER18-1584-000.

Applicants: Mississippi Power Company.

Description: Response of Mississippi Power Company to July 13, 2018 letter requesting additional information.

Filed Date: 8/14/18.

Accession Number: 20180814-5140.

Comments Due: 5 p.m. ET 9/4/18.

Docket Numbers: ER18-1731-001.

Applicants: Midcontinent Independent System Operator, Inc.

Description: Tariff Amendment: 2018-08-15_Deficiency response of MISO TOs for Cost Recovery to be effective 8/1/2018.

Filed Date: 8/15/18.

Accession Number: 20180815-5050.

Comments Due: 5 p.m. ET 9/5/18.

Docket Numbers: ER18-2157-001.

Applicants: Mid-Atlantic Interstate Transmission, LLC, PJM Interconnection, L.L.C.

Description: Tariff Amendment: MAIT submits an Amendment to the ECSA SA No. 4974 to be effective 10/5/2018.

Filed Date: 8/15/18.

Accession Number: 20180815-5086.

Comments Due: 5 p.m. ET 9/5/18.

Docket Numbers: ER18-2217-000.

Applicants: Buckleberry Solar, LLC.

Description: Baseline eTariff Filing: Application for Market-Based Rate Authority, Blanket Approval and Waivers to be effective 9/19/2018.

Filed Date: 8/15/18.

Accession Number: 20180815-5000.

Comments Due: 5 p.m. ET 9/5/18.

Docket Numbers: ER18-2218-000.

Applicants: Southwest Power Pool, Inc.

Description: § 205(d) Rate Filing: 3434 East Texas Electric Cooperative NITSA and NOA to be effective 1/1/2018.

Filed Date: 8/15/18.

Accession Number: 20180815-5021.

Comments Due: 5 p.m. ET 9/5/18.

Docket Numbers: ER18-2219-000.

Applicants: PJM Interconnection, L.L.C.

Description: Tariff Cancellation: Notice of Cancellation of WMPA SA No. 4742; Queue No. AC1-045 to be effective 10/1/2018.

Filed Date: 8/15/18.

Accession Number: 20180815-5048.

Comments Due: 5 p.m. ET 9/5/18.

Docket Numbers: ER18-2220-000.

Applicants: Midcontinent Independent System Operator, Inc., Great River Energy.

Description: § 205(d) Rate Filing: 2018-08-15_SA 3148 NSPM-GRE T-T (McHenry-Magic City) to be effective 8/14/2018.

Filed Date: 8/15/18.

Accession Number: 20180815-5073.

Comments Due: 5 p.m. ET 9/5/18.

Docket Numbers: ER18-2221-000.

Applicants: Midcontinent Independent System Operator, Inc., Great River Energy.

Description: § 205(d) Rate Filing: 2018-08-15_SA 3149 NSPM-GRE T-T (Riverview) to be effective 8/14/2018.

Filed Date: 8/15/18.

Accession Number: 20180815-5081.

Comments Due: 5 p.m. ET 9/5/18.

Take notice that the Commission received the following qualifying facility filings:

Docket Numbers: QF17-673-002.

Applicants: Beaver Creek Wind II, LLC.

Description: Application for Recertification of Beaver Creek Wind II, LLC.

Filed Date: 8/14/18.

Accession Number: 20180814-5137.

Comments Due: 5 p.m. ET 9/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2018.
Nathaniel J. Davis, Sr.,
Deputy Secretary.

[FR Doc. 2018-17997 Filed 8-20-18; 8:45 am]

BILLING CODE 6717-01-P